DEPARTMENT OF THE INTERIOR

Bureau of Land Management

[LLAK927000 L54200000 FR0000 LVDIL0440000; AA-086372]

Notice of Application for a Recordable Disclaimer of Interest for Lands Underlying Aniak River and Lake in Alaska

AGENCY: Bureau of Land Management, Interior.

ACTION: Notice.

SUMMARY: The State of Alaska (State) has filed an application with the Bureau of Land Management (BLM) for a Recordable Disclaimer of Interest from the United States in those lands underlying the Aniak River and Lake in southwestern Alaska. The State asserts that the Aniak River and Lake were navigable and unreserved at the time of statehood; therefore, title to the submerged lands passed to the State at the time of statehood (1959). This river system is partially within the exterior boundaries of the Yukon Delta National Wildlife Refuge, created by the Alaska National Interest Lands Conservation Act, Public Law 96-487 of December 2, 1980, and administered by the U.S. Fish and Wildlife Service.

DATES: All comments to this action should be received on or before October 27, 2011.

ADDRESSES: Comments on the State of Alaska application or the BLM Draft Summary Report must be filed with the Chief, Branch of Survey Planning and Preparation (AK-9270), Division of Cadastral Survey, BLM Alaska State Office, 222 West 7th Avenue, #13, Anchorage, Alaska 99513-7504.

FOR FURTHER INFORMATION CONTACT: Jack Frost, Navigable Waters Specialist, 907-271-5531; 222 West 7th Avenue, #13, Anchorage, Alaska 99513; e-mail jfrost@blm.gov. Persons who use a telecommunications device for the deaf (TDD) may call the Federal Information Relay Service at 1-800-877-8339 to contact the above individual; or visit the BLM Recordable Disclaimer of Interest Web site at http://www.blm.gov/ak/st/en/prog/rdi.html.

SUPPLEMENTARY INFORMATION: On March 10, 2006, the State filed an application for a Recordable Disclaimer of Interest pursuant to Section 315 of the Federal Land Policy and Management Act of 1976, and the regulations contained in 43 CFR Subpart 1864 for the lands underlying the Aniak River and Lake (AA-086372). A Recordable Disclaimer of Interest, if issued, will confirm that the United States has no valid interest in the subject lands. This notice is to notify the public of the pending application and the State's grounds for supporting it. The State asserts that this river system is navigable; therefore, under the Equal Footing Doctrine, the Submerged Lands Act of 1953, the Alaska Statehood Act, the Alaska Right of Way Act of 1898, and other title navigability law, ownership of these lands underlying the river automatically passed from the United States to the State at the time of statehood in 1959.

The State's application, AA-086372, is for “all submerged lands lying within the bed of Aniak River, below the ordinary high water lines of the left and right banks beginning at its source in Section 20 of Township 3 North, Range 57 West, Seward Meridian, Alaska, northerly to its confluence with the Kuskokwim River in Section 7 of Township 17 North, Range 56 West, Seward Meridian, Alaska; and the submerged lands encompassed by the ordinary high water line of Aniak Lake within the following townships and ranges in the Seward Meridian, Township 5 North, Range 56 West; Township 4 North, Range 57 West.” The State did not identify any known adverse claimant or occupant of the affected lands.

A final decision on the merits of the application will not be made before October 27, 2011. During the 90-day period, interested parties may comment on the State's application, AA-086372, and supporting evidence. Interested parties may also comment during this time on the BLM's Draft Summary Report. The State's application and the BLM's Draft Summary Report may be viewed on the BLM Recordable Disclaimer of Interest Web site at http://www.blm.gov/ak/st/en/prog/rdi.html, or in the BLM Public Room located at 222 West 7th Avenue, Anchorage, Alaska 99513.

Comments filed with the BLM Division of Cadastral Survey, including names and street addresses of commenters, will be available for public inspection at the BLM Alaska State Office (see ADDRESSES above), during regular business hours from 8 a.m. to 4 p.m., Monday through Friday, except Federal holidays.

Before including your address, phone number, e-mail address, or other personal identifying information in your comment, you should be aware that your entire comment—including your personal identifying information—may be made publicly available at any time. While you may ask us in your comment to withhold your personal identifying information from public view, we cannot guarantee that we will be able to do so.

If no valid objection is received and all else is proper, a Disclaimer of Interest may be approved stating that the United States does not have a valid interest in these lands.

Authority: 43 CFR 1864.2(a).

Craig Frichtl,
Chief, Branch of Survey Planning and Preparation.

[FR Doc. 2011-19215 Filed 7-28-11; 8:45 am]

BILLING CODE 4310-JA-P